DEPARTMENT OF EDUCATION

34 CFR Chapter II

Office of Elementary and Secondary Education; Title I of the Elementary and Secondary Education Act of 1965, as Amended (ESEA); Improving the Academic Achievement of the Disadvantaged

AGENCY: Department of Education.

ACTION: Notice of meetings to conduct a negotiated rulemaking process.

SUMMARY: The Assistant Secretary for Elementary and Secondary Education (Assistant Secretary) of the U.S. Department of Education (Department) will convene a negotiating group—including Federal, State, and local education administrators, parents, teachers, and members of local boards of education—to participate in a negotiated rulemaking process prior to publishing proposed regulations to implement part A of Title I, Improving Basic Programs Operated by Local Educational Agencies, of the Elementary and Secondary Education Act of 1965, as recently amended by the No Child Left Behind Act of 2001. Title I is designed to help disadvantaged children meet high academic standards. The negotiating committee will review draft proposed regulations developed on statutory provisions involving standards and assessments.

DATES: We will hold five meetings of the negotiating group. The dates and times of the meetings are in the Schedule of Negotiations.

ADDRESSES: The five meetings to conduct the negotiated rulemaking process will be held at the U.S. Department of Education, Barnard Auditorium, 400 Maryland Avenue, SW., Washington, DC 20202.

FOR FURTHER INFORMATION CONTACT: Susan Wilhelm, Compensatory Education Programs, Office of Elementary and Secondary Education, U.S. Department of Education, 400 Maryland Avenue, SW., Room 3W202, Washington, DC 20202-6132. Telephone (202) 260-0826.

If you use a telecommunications device for the deaf (TDD), you may call the Federal Information Relay Service (FIRS) at 1-800-877-8339.

Individuals with disabilities may obtain this document in an alternative format (e.g., Braille, large print, audiotape, or computer diskette) on request to the contact person listed in the preceding paragraph.

The meeting site is accessible to individuals with disabilities. If you need an auxiliary aid or service to participate in the meeting (e.g., interpreting service, assistive listening device, or materials in alternative format), notify the contact person listed in this notice in advance of the scheduled meeting date. We will make every effort to meet any request we receive.

The meetings are open to the public for individuals who wish to observe the process. The Department anticipates publishing a Notice of Proposed Rulemaking no later than May 1, 2002.

SUPPLEMENTARY INFORMATION:

Schedule of Negotiations

We will hold five meetings of the negotiating group to review the draft proposed regulations:

1. March 11, 2002, 9 a.m. to 5 p.m.

2. March 12, 2002, 9 a.m. to 5 p.m.

3. March 13, 2002, 9 a.m. to 5 p.m.

4. March 19, 2002, 9 a.m. to 5 p.m.

5. March 20, 2002, 9 a.m. to 5 p.m.

Background

On January 8, 2002, the President signed Pub. L. 107-110, the No Child Left Behind (NCLB) Act of 2001, amending the Elementary and Secondary Education Act of 1965 (ESEA). Among other things, the NCLB Act reauthorizes—for a six-year period—programs under Title I of the ESEA designed to help disadvantaged children reach high academic standards.

Section 1901 of Title I requires that, before publishing any proposed regulations to implement programs under Title I, the Department obtain the advice and recommendations of representatives of State and local administrators, parents, teachers and paraprofessionals, members of local school boards, and other organizations involved with the implementation and operation of Title I programs. On January 18, 2002, the U.S. Secretary of Education published a notice in the Federal Register (67 FR 2770) requesting advice and recommendations on regulatory issues under Title I. In response to that notice, the Assistant Secretary received comments from more than 100 individuals and organizations. Section 1901 also requires the Department, after obtaining advice and recommendations and before publishing proposed regulations, to establish a negotiated rulemaking process on, at a minimum, issues relating to standards and assessments under Title I, Part A. The statute requires that the negotiators represent all geographic regions of the United States and an equitable balance between representatives of parents and students and representatives of educators and education officials. To convene a diverse negotiating group that represents a wide range of interests, the Assistant Secretary asked more than 70 organizations to submit nominations with their comments on regulatory issues. In addition, the Department received nominations from individuals and organizations that participated in focus groups held to solicit advice or who commented independently in response to the Federal Register notice.

The Assistant Secretary has selected individuals to participate in the negotiated rulemaking process from among the individuals and organizations providing advice and recommendations in response to the Federal Register notice, including representation form all geographic regions of the United States and an equitable balance between representatives of parents and students and representatives of educators and education officials. The Assistant Secretary has also considered negotiators who would contribute to the diversity and expertise of the group. The following are the individuals who will participate in negotiated rulemaking and the interests they represent:

Representing State Administrators and State Boards of Education

Judy Catchpole, Superintendent of Public Instruction, Wyoming Department of Education Jim Horne, Secretary of Education, Florida Department of Education Dr. Bob Harmon, Assistant State Superintendent for Special Programs, Washington Department of Public Instruction Rodney Watson, Assistant Superintendent, Office of Student and School Standards, Louisiana Department of Education Lou Fabrizio, Director, Division of Accountability Services, North Carolina Department of Education Rae Belisle, Chief Counsel, California State Board of Education

Representing Local Administrators and Local School Boards

Charlotte Harris, Senior Director of Program Development, Boston (MA) Public Schools, J. Alvin Wilbanks, Superintendent, Gwinnett County (GA), Public Schools, Beverly Carroll, Alachua County (FL) School Board, Nelson Smith, charter schools, Washington, DC.

Representing Principals and Teachers

Avis Cotton, Principal, Dardanelle (AR) Middle School, Enedelia Scholfield, Principal, W.L. Henry Elementary School, Hillsboro (OR), Patricia Fisher, Title I teacher, Hooker Public Schools (OK).

Representing Students (Including At-risk Students, Migrant Students, Limited-English-Proficient Students, Students With Disabilities, and Private School Students):

Tasha Tillman, parent, Colorado Springs (CO).

Minnie Pearce, parent, Detroit (MI).

Arturo Abarca, teacher, Helitrope Elementary School, Los Angeles Unified School District (CA).

Maria Seidner, Director, Bilingual Education, Texas Education Agency.

Dr. Alexa Pochowski, Associate Commissioner, Kansas Department of Education.

Myrna Toney, Director of Migrant Education, Wisconsin Department of Education.

John R. Clark, Assistant Superintendent, Department of Education, Diocese of Allentown (PA).

Representing Business Interests

John Stevens, Director, Texas Business and Education Coalition.

Representing the U.S. Department of Education

Susan B. Neuman, Ed.D., Assistant Secretary for Elementary and Secondary Education.

Dr. Joseph F. Johnson, Director, Compensatory Education Programs.

If an individual feels that his or her interests are not adequately represented by this diverse group, the individual may petition, at the initial meeting on March 11, to be seated as a negotiator. The negotiating group will determine whether that individual should be added to the group. The negotiating group will make that decision based on factors such as whether the individual—

(1) Would be substantially affected by the rule;

(2) Has interests not already adequately represented by the group; and

(3) Meets the requirements of section 1901 of the ESEA.

Topics Selected for Negotiation

The issues selected for negotiated rulemaking are the Title I, Part A requirements pertaining to standards and assessments. As the January 18 notice indicated, the Department also considered including in the negotiations issues pertaining to adequate yearly progress. Based on significant concerns raised during the public comment period, and given the statutory time constraints discussed in the section on “Regional Meetings” below, however, the Department is not subjecting it to negotiated rulemaking. That issue, as well as other Title I issues, will be addressed through the regular rulemaking process (including the regional meetings discussed below). The draft of the proposed regulations that the negotiators will review is available on the Department's Web site at www.ed.gov/nelb/.

Facilitator

The Department has retained the services of an assessment expert and a facilitator for the negotitated rulemaking process. The assessment expert will be available as a resource to the negotiators on assessments issues. The facilitator will serve as a neutral convenor for the negotiations. Neither the assessment expert nor the facilitator will be involved with the substantive development of the regulations. The facilitator's role is to—

(1) Chair negotiating sessions;

(2) Help the negotiating process run smoothly and

(3) Help participants define issues and reach consensus.

The facilitator will keep a record of the negotiated rulemaking meetings, which will be placed in the Department's rulemaking docket for this regulatory action.

Regional Meetings

The Department has developed this process and scheduled negotiated rulemaking very expeditiously, since the NCLB Act was enacted on January 8, and the Department hopes to issue these regulations on a timely basis so that they will be in place as early as possible this year, and issued in accordance with the requirements of section 1908 of the Act. That section requires that regulations to implement sections 1111 and 1116 of this Act be issued within six months of enactment. Recognizing that many interested parties may not yet have an opportunity to provide input or may not be able to attend the negotiated rulemaking meetings, the Department intends to convene four regional meetings during the public comment period after publishing proposed regulations in accordance with section 1901 of the Act. At these meetings, interested parties can provide input regarding the proposed regulations. The Department will announce these meetings in a notice in the Federal Register in the near future.

Electronic Access to This Document

You may view this document, in Text or Abobe Portable Document Format (PDF), on the Internet at the following site: http://www.ed.gov/legislation/FedRegister

To use the PDF, you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO access at: http://www.access.gpo.gov/nara/index.html

(Catalog of Federal Domestic Assistance Number: 84.010, Improving Programs Operated by Local Educational Agencies)

Program Authority: Public Law 107-110.

Dated: February 25, 2002.
Susan B. Neuman,
Assistant Secretary for Elementary and Secondary, Education.

[FR Doc. 02-4862 Filed 2-27-02; 8:45 am]

BILLING CODE 4001-01-M